DEPARTMENT OF HOMELAND SECURITY

Federal Emergency Management Agency

[Docket ID FEMA-2014-0002; Internal Agency Docket No. FEMA-B-1411]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Baldwin | City of Gulf Shores (13-04-7450P) | The Honorable Robert Craft, Mayor, City of Gulf Shores, P.O. Box 299, Gulf Shores, AL 36547 | Community Development Department, 1905 West 1st Street, Gulf Shores, AL 36547 | http://www.msc.fema.gov/lomc | June 16, 2014 | 015005
Houston | City of Dothan (13-04-5057P) | The Honorable Mike Schmitz, Mayor, City of Dothan, P.O. Box 2128, Dothan, AL 36302 | Engineering Department, 126 North St. Andrews Street, Dothan, AL 36303 | http://www.msc.fema.gov/lomc | June 20, 2014 | 010104
Arizona:
Greenlee | Unincorporated areas of Greenlee County (13-09-2482P) | The Honorable David Gomez, Chairman, Greenlee County Board of Supervisors, P.O. Box 908, Clifton, AZ 85533 | Greenlee County Planning and Zoning Department, 253 5th Street, Clifton, AZ 85533 | http://www.msc.fema.gov/lomc | June 26, 2014 | 040110
Maricopa | City of Peoria (13-09-2575P) | The Honorable Bob Barrett, Mayor, City of Peoria, 8401 West Monroe Street, Peoria, AZ 85345 | City Hall, 8401 West Monroe Street, Peoria, AZ 85345 | http://www.msc.fema.gov/lomc | June 27, 2014 | 040050
Maricopa | Unincorporated areas of Maricopa County (13-09-2575P) | The Honorable Denny Barney, Chairman, Maricopa County Board of Supervisors, 301 West Jefferson Street, 10th Floor, Phoenix, AZ 85003 | Maricopa County Flood Control District, 2801 West Durango Street, Phoenix, AZ 85009 | http://www.msc.fema.gov/lomc | June 27, 2014 | 040037
Pima | City of Tucson (13-09-3259P) | The Honorable Jonathan Rothschild, Mayor, City of Tucson, 255 West Alameda Street, 10th Floor, Tucson, AZ 85701 | Planning and Development Services Department, 201 North Stone Avenue, 1st Floor, Tucson, AZ 85701 | http://www.msc.fema.gov/lomc | July 7, 2014 | 040076
Pima | Unincorporated areas of Pima County (13-09-3190P) | The Honorable Ramon Valadez, Chairman, Pima County Board of Supervisors, 130 West Congress Street, 11th Floor, Tucson, AZ 85701 | Pima County Flood Control District, 97 East Congress Street, 3rd Floor, Tucson, AZ 85701 | http://www.msc.fema.gov/lomc | June 6, 2014 | 040073
California:
San Bernardino | City of Fontana (14-09-0709P) | The Honorable Acquanetta Warren, Mayor, City of Fontana, 8353 Sierra Avenue, Fontana, CA 92335 | Engineering Department, 8353 Sierra Avenue, Fontana, CA 92335 | http://www.msc.fema.gov/lomc | June 13, 2014 | 060274
Sonoma | City of Petaluma (14-09-1064P) | The Honorable David Glass, Mayor, City of Petaluma, 11 English Street, Petaluma, CA 94952 | Department of Public Works and Utilities, 11 English Street, Petaluma, CA 94952 | http://www.msc.fema.gov/lomc | June 20, 2014 | 060379
Florida:
Bay | City of Panama City Beach (13-04-6018P) | The Honorable Gayle Oberst, Mayor, City of Panama City Beach, 110 South Arnold Road, Panama City Beach, FL 32413 | Building Department, 110 South Arnold Road, Panama City Beach, FL 32413 | http://www.msc.fema.gov/lomc | June 20, 2014 | 120013
Bay | City of Panama City Beach (13-04-8211P) | The Honorable Gayle Oberst, Mayor, City of Panama City Beach, 110 South Arnold Road, Panama City Beach, FL 32413 | Building Department, 110 South Arnold Road, Panama City Beach, FL 32413 | http://www.msc.fema.gov/lomc | June 20, 2014 | 120013
Bay | Unincorporated areas of Bay County (13-09-8211P) | The Honorable Guy M. Tunnell, Chairman, Bay County Board of Commissioners, 808 West 11th Street, Panama City, FL 32401 | Bay County Planning and Zoning Department, 707 Jenks Avenue, Suite B, Panama City, FL 32401 | http://www.msc.fema.gov/lomc | June 20, 2014 | 120004
Gulf | Unincorporated areas of Gulf County (13-04-5405P) | The Honorable Ward McDaniel, Chairman, Gulf County Board of Commissioners, 1000 Cecil G. Costin, Sr. Boulevard, Port St. Joe, FL 32456 | Gulf County Courthouse, 1000 Cecil G. Costin, Sr. Boulevard, Suite 311, Port St. Joe, FL 32456 | http://www.msc.fema.gov/lomc | June 27, 2014 | 120098
Pinellas | City of St. Petersburg (13-04-5913P) | The Honorable Rick Kriseman, Mayor, City of St. Petersburg, 175 5th Street North, St. Petersburg, FL 33701 | Municipal Services Center, Permit Division, 1 4th Street North, St. Petersburg, FL 33701 | http://www.msc.fema.gov/lomc | June 27, 2014 | 125148
Sarasota | Town of Longboat Key (12-04-8304P) | The Honorable Jim Brown, Mayor, Town of Longboat Key, 501 Bay Isles Road, Longboat Key, FL 34228 | Planning, Zoning and Building Department, 501 Bay Isles Road, Longboat Key, FL 34228 | http://www.msc.fema.gov/lomc | July 7, 2014 | 125126
Sumter | City of Wildwood (14-04-1328P) | The Honorable Ed Wolf, Mayor, City of Wildwood, 100 North Main Street, Wildwood, FL 34785 | Development Services Department, 100 North Main Street, Wildwood, FL 34785 | http://www.msc.fema.gov/lomc | July 11, 2014 | 120299
New York: Dutchess | Town of LaGrange (14-02-0734P) | The Honorable Alan Bell, Supervisor, LaGrange Town Board, 120 Stringham Road, LaGrangeville, NY 12540 | Town Hall, 120 Stringham Road, LaGrangeville, NY 12540 | http://www.msc.fema.gov/lomc | August 11, 2014 | 361011
North Carolina:
Wake | Town of Cary (13-04-5160P) | The Honorable Harold Weinbrecht, Mayor, Town of Cary, P.O. Box 8005, Cary, NC 27512 | Town Hall, 316 North Academy Street, Cary, NC 27512 | http://www.msc.fema.gov/lomc | May 26, 2014 | 370238
Wake | Town of Cary (13-04-5161P) | The Honorable Harold Weinbrecht, Mayor, Town of Cary, P.O. Box 8005, Cary, NC 27512 | Town Hall, 316 North Academy Street, Cary, NC 27512 | http://www.msc.fema.gov/lomc | May 26, 2014 | 370238
Wake | Town of Cary (13-04-5162P) | The Honorable Harold Weinbrecht, Mayor, Town of Cary, P.O. Box 8005, Cary, NC 27512 | Town Hall, 316 North Academy Street, Cary, NC 27512 | http://www.msc.fema.gov/lomc | May 26, 2014 | 370238
Wake | Town of Cary (13-04-5163P) | The Honorable Harold Weinbrecht, Mayor, Town of Cary, P.O. Box 8005, Cary, NC 27512 | Town Hall, 316 North Academy Street, Cary, NC 27512 | http://www.msc.fema.gov/lomc | May 26, 2014 | 370238
Wake | Unincorporated areas of Wake County (13-04-5161P) | The Honorable Joe Bryan, Chairman, Wake County Board of Commissioners, P.O. Box 550, Raleigh, NC 27602 | Wake County Office Building, 336 Fayetteville Street, Raleigh, NC 27602 | http://www.msc.fema.gov/lomc | May 26, 2014 | 370368
Wake | Unincorporated areas of Wake County (13-04-5943P) | The Honorable Joe Bryan, Chairman, Wake County Board of Commissioners, P.O. Box 550, Raleigh, NC 27602 | Wake County Office Building, 336 Fayetteville Street, Raleigh, NC 27602 | http://www.msc.fema.gov/lomc | May 26, 2014 | 370368
South Dakota:
Brown | City of Aberdeen (13-08-0756P) | The Honorable Mike Levsen, Mayor, City of Aberdeen, 123 South Lincoln Street, Aberdeen, SD 57401 | City Engineer's Office, 123 South Lincoln Street, Aberdeen, SD 57401 | http://www.msc.fema.gov/lomc | July 11, 2014 | 460007
Brown | Unincorporated areas of Brown County (13-08-0756P) | The Honorable Duane Sutton, Chairman, Brown County Board of Commissioners, 25 Market Street, Suite 1, Aberdeen, SD 57401 | Brown County Planning and Zoning Department, 25 Market Street, Suite 5, Aberdeen, SD 57401 | http://www.msc.fema.gov/lomc | July 11, 2014 | 460006
Minnehaha | City of Hartford (13-08-1106P) | The Honorable Paul Zimmer, Mayor, City of Hartford, P.O. Box 727, Hartford, SD 57033 | City Hall, 125 North Main Avenue, Hartford, SD 57033 | http://www.msc.fema.gov/lomc | June 16, 2014 | 460180
Minnehaha | Unincorporated areas of Minnehaha County (13-08-1106P) | The Honorable Cindy Heiberger, Chair, Minnehaha County Board of Commissioners, 415 North Dakota Avenue, Sioux Falls, SD 57104 | Minnehaha County Planning Department, 415 North Dakota Avenue, Sioux Falls, SD 57104 | http://www.msc.fema.gov/lomc | June 16, 2014 | 460057

(Catalog of Federal Domestic Assistance No. 97.022, “Flood Insurance.”)

Dated: April 22, 2014.
Roy E. Wright,
Deputy Associate Administrator for Mitigation, Department of Homeland Security, Federal Emergency Management Agency.

[FR Doc. 2014-11009 Filed 5-12-14; 8:45 am]

BILLING CODE 9110-12-P